DEPARTMENT OF COMMERCE

National Oceanic and Atmospheric Administration

50 CFR Part 622

[Docket No. 100217095-2081-04; RTID 0648-XB410]

Reef Fish Fishery of the Gulf of Mexico; 2021 Recreational Accountability Measure and Closure for Gulf of Mexico Red Grouper

AGENCY: National Marine Fisheries Service (NMFS), National Oceanic and Atmospheric Administration (NOAA), Commerce.

ACTION: Temporary rule; closure.

SUMMARY: NMFS implements an accountability measure (AM) for the red grouper recreational sector in the exclusive economic zone (EEZ) of the Gulf of Mexico (Gulf) for the 2021 fishing year through this temporary rule. NMFS has projected that the 2021 recreational annual catch limit (ACL) for Gulf red grouper has been met. Therefore, NMFS closes the recreational sector for Gulf red grouper on September 15, 2021, and it will remain closed through the end of the fishing year on December 31, 2021. This closure is necessary to protect the Gulf red grouper resource.

DATES: This temporary rule is effective from 12:01 a.m., local time, on September 15, 2021, until 12:01 a.m., local time, on January 1, 2022.

FOR FURTHER INFORMATION CONTACT: Dan Luers, NMFS Southeast Regional Office, telephone: 727-551-5719, email: daniel.luers@noaa.gov.

SUPPLEMENTARY INFORMATION: NMFS manages the Gulf reef fish fishery, which includes red grouper, under the Fishery Management Plan for the Reef Fish Resources of the Gulf of Mexico (FMP). The FMP was prepared by the Gulf of Mexico Fishery Management Council and is implemented by NMFS under the authority of the Magnuson-Stevens Fishery Conservation and Management Act (Magnuson-Stevens Act) through regulations at 50 CFR part 622. All red grouper weights discussed in this temporary rule are in gutted weight.

The recreational ACL for Gulf red grouper is 1,000,000 lb (450,000 kg), and the recreational annual catch target (ACT) is 920,000 lb (420,000 kg) (50 CFR 622.41(e)(2)(iv)).

As specified in 50 CFR 622.41(e)(2)(i), NMFS is required to close the recreational sector for red grouper when the recreational ACL is reached or is projected to be reached by filing a notification to that effect with the Office of the Federal Register. Based on information received on September 1, 2021, NMFS has determined the 2021 recreational ACL for Gulf red grouper was met as of June 30, 2021. Accordingly, this temporary rule closes the recreational sector for Gulf red grouper effective at 12:01 a.m., local time, on September 15, 2021, and it will remain closed through the end of the fishing year on December 31, 2021.

During the recreational closure, the bag and possession limits for red grouper in or from the Gulf EEZ are zero. The prohibition on possession of Gulf red grouper also applies in Gulf state waters for any vessel issued a valid Federal charter vessel/headboat permit for Gulf reef fish.

Because the 2021 recreational ACL for Gulf red grouper has been exceeded, NMFS will file a notice with the Office of the Federal Register to reduce the length of the 2022 Gulf recreational red grouper fishing season by the amount necessary to ensure Gulf red grouper recreational landings in 2022 do not exceed the recreational ACT (50 CFR 622.41(e)(2)(ii).

Classification

NMFS issues this action pursuant to section 305(d) of the Magnuson-Stevens Act. This action is required by 50 CFR 622.41(e)(2)(i), which was issued pursuant to section 304(b) of the Magnuson-Stevens Act, and is exempt from review under Executive Order 12866.

Pursuant to 5 U.S.C. 553(b)(B), there is good cause to waive prior notice and an opportunity for public comment on this action, as notice and comment is unnecessary and contrary to the public interest. Such procedures are unnecessary because the regulations associated with the closure of the red grouper recreational sector at 50 CFR 622.41(e)(2)(i) have already been subject to notice and public comment, and all that remains is to notify the public of the closure. Prior notice and opportunity for public comment are contrary to the public interest because there is a need to immediately implement this action to protect the red grouper stock. The recreational ACL for red grouper has already been exceeded. Prior notice and opportunity for public comment would require time and could result in a harvest well in excess of the established ACL.

For the aforementioned reasons, the Assistant Administrator also finds good cause to waive the 30-day delay in the effectiveness of this action under 5 U.S.C. 553(d)(3).

Authority: 16 U.S.C. 1801 et seq.

Dated: September 9, 2021.
Jennifer M. Wallace,
Acting Director, Office of Sustainable Fisheries, National Marine Fisheries Service.

[FR Doc. 2021-19825 Filed 9-10-21; 4:15 pm]

BILLING CODE 3510-22-P